NATIONAL FOUNDATION ON THE ARTS AND THE HUMANITIES

National Endowment for the Arts

Subject 30-Day Notice for the “USArtists International Program Information Collection”

AGENCY: National Endowment for the Arts, National Foundation on the Arts and the Humanities.

ACTION: Notice.

SUMMARY: The National Endowment for the Arts (NEA), as part of its continuing effort to reduce paperwork and respondent burden, conducts a preclearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. Currently, the NEA is soliciting comments concerning the proposed information collection for the Survey of American Artists Participating in International Exchanges. Copies of this ICR, with applicable supporting documentation, may be obtained by visiting www.Reginfo.gov.

DATES: Written comments must be submitted to the office listed in the address section below within 30 days from the date of this publication in the Federal Register.

ADDRESSES: Comments should be sent to the Office of Information and Regulatory Affairs, Attn: OMB Desk Officer for the National Endowment for the Arts, Office of Management and Budget, Room 10235, Washington, DC 20503 202/395-7316, within 30 days from the date of this publication in the Federal Register.

SUPPLEMENTARY INFORMATION: The NEA is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: National Endowment for the Arts.

Title: Survey of American Artists Participating in International Exchanges.

OMB Number: New.

Frequency: One-Time Pilot Test and Annual Web Survey.

Affected Public: Artists with travel sponsored by the USArtists International program.

Estimated Number of Respondents: 414 (189 pilot test respondents + 75 survey respondents per year).

Total Burden Hours: 70.38 (32.13 in pilot test + 12.75 per survey year).

Total annualized capital/startup costs: 0.

Total annual costs (operating/maintaining systems or purchasing services): $9,879.15.

The planned data collection is a new information collection request, and the data to be collected are not available elsewhere unless obtained through this information collection. A web-based survey of the USAI program grantees is planned once annually for March 2021, March 2022, and March 2023. A pilot test of the web survey is planned for March 2020, contingent upon OMB approval. Knowledge gained through this information collection will enable the Arts Endowment to collect evidence on the impact of the USAI program on U.S. artists' careers. Currently, the Arts Endowment does not collect any information from USAI grantees related to the benefits of the program on their careers.

USAI is an international artist exchange program administered by the Mid Atlantic Arts Foundation. The Arts Endowment is the lead funder of the program and supports the program through a cooperative agreement with Mid Atlantic Arts Foundation. Additional supporting partners include the Andrew W. Mellon Foundation and the John D. and Catherine T. MacArthur Foundation which support artists from the Chicago area, and the Trust for Mutual Understanding and the Howard Gilman Foundation which support New York City-based organizations. It is the only national initiative in the United States solely devoted to supporting performances by American artists at important international cultural festivals and arts marketplaces abroad and is the largest of the Arts Endowment efforts supporting artists' performances abroad. USAI provides grants of up to $15,000 towards the support of artist fees, travel, accommodations, per diem, shipping, and visa preparation for U.S. artists. USAI provides grants to ensembles and individual performers in dance, music, and theatre.

Based on the Arts Endowment's FY 2018-2022 Strategic Plan (approved by OMB), the Arts Endowment decided to develop a survey of U.S. artists participating in international exchange programs to support performance reporting that shows “Arts Endowment-supported international exchanges have a demonstrable benefit on the careers of participating American artists” (performance goal 3.3.3) and “the percentage of American artists that report benefits of their participation in Arts Endowment-supported international exchanges” (performance indicator 3.3.3.1). The survey supports the agency's evidence-building efforts, to better understand outcomes associated with its investments. On page 26 of the Strategic Plan, the study is described as a specific evidence-building initiative supporting Strategic Objective 3.3:

The NEA intends to examine the impacts of these international exchanges on the careers of U.S. artists and on U.S. audiences who experience works originating from foreign artists as part of its evidence-building efforts. As an initial step, the NEA is investigating whether to plan a survey of U.S. artists participating in international exchanges with the goal of developing a richer understanding of the program's short- and longer-term impacts on their careers.

The Arts Endowment's Office of International Activities and Office of Research & Analysis decided to survey artist grantees of the USAI program because it is the largest of the Arts Endowment's efforts to support artists' travel and performances abroad and can provide the largest sample of artists to survey. The questions in the survey will capture five constructs related to artists' careers, including professional opportunities, professional networks, professional skills and learning, reputations, and creativity.

This request is for a conditional clearance to conduct pilot testing of a web survey and upon OMB receiving the results of the pilot study, a potential full clearance to conduct an annual survey of past USAI program participants once the survey has been piloted.

Dated: January 8, 2020.
Gregory Gendron,
Director of Administrative Services, National Endowment for the Arts.

[FR Doc. 2020-00362 Filed 1-13-20; 8:45 am]

BILLING CODE 7537-01-P